DEPARTMENT OF TRANSPORTATION

Federal Aviation Administration

Commercial Routes for the Grand Canyon National Park

AGENCY: Federal Aviation Administration (FAA), DOT.

ACTION: Notice of availability of routes in grand Canyon National Park; disposition of comments.

SUMMARY: This notice disposes of comments made on a notice of availability of routes in the Grand Canyon National Park (GCNP) Special Flights Rules Area (SFRA) published July 9, 1999, and makes available the final map depicting those routes. The commercial routes are not being published in the Federal Register because they are depicted on large, detailed charts that would be difficult to read if published in the Federal Register. The modifications of certain commercial routes require airspace changes in the GNCP SFRA that are contained in a final rule being published concurrently in this Federal Register. The airspace modification and the modification to the route structure support the National Park Service mandate to provide for the substantial restoration of the natural quiet and experience in GNCP.

EFFECTIVE DATE: The routes depicted on the map made available by this notice are effective on December 1, 2000.

FOR FURTHER INFORMATION CONTACT: Gary Davis, Air Transportation Division, AFS-200, 800 Independence Avenue, SW., Washington, DC 20591, Telephone (202) 267-8166.

SUPPLEMENTARY INFORMATION: The final commercial routes are not being published in the Federal Register because they are on very large and detailed charts that would not publish well in the Federal Register. The Grand Canyon Visual Flight Rules (VFR) Chart can be purchased from National Ocean service (NOS) authorized chart agents throughout the world, or directly from NOS with a credit card on (800) 638-8972. The cost of the chart is $3.35. Please specify 3rd edition.

Discussion

On July 9, 1999, the FAA published a notice of availability of routes in GNCP and request for comments (64 FR 37191). The FAA, in consultation with the National Park Service (NPS), developed the routes based on safety considerations, economic considerations, consultation with Native American tribes, airspace configurations, the need to substantially restore natural quiet and experience in the GNCP, and comments received in response to the notice of availability of routes. The FAA, in consultation with the NPS, also has modified the existing airspace in the SFRA to accommodate these route changes in a companion final rule (Docket No. FAA-99-5926) published elsewhere in this Federal Register.

In developing the routes for GNCP, the FAA has consulted with Native American tribes, on a government-to-government basis, in accordance with the Presidential Memorandum on Government-to-Government Consultation with Native American Tribal Governments. This consultation was designed to assess potential effects on tribal trust resources and to assure that tribal government rights and concerns are considered in the decisionmaking process. The FAA also has consulted with Native American Tribes pursuant to the American Indian Religious Freedom Act and the Religious Freedom Restoration Act concerning potential effects of the routes on sacred sites. In accordance with Section 106 of the National Historic Preservation Act, the FAA has consulted with Native American tribes, the Arizona State Historic Preservation Office, the Advisory Council on Historic Preservation, and other interested parties concerning potential effects on historic sites, including traditional cultural properties and Native American sacred sites.

Disposition of Comments on Routes

The FAA received more than 100 comments on the notice of availability published July 9, 1999. Comments were submitted by air tour operators (Air Vegas, Southwest Safaris, Grand Canyon Airlines); industry associations (Aircraft Owners and Pilots Association, National Air Transportation Association, Helicopter Association International); aircraft manufacturers (Twin Otter International, Ltd.); environmental groups (Arizona Raft Adventures, Friends of Grand Canyon, Grand Canyon River Guides, Grand Canyon Trust, Mariposa Audubon Society, Nature Sounds Society, National Parks and Conservation Association, Quiet Skies Alliance, Sierra Club, The Wilderness Society); private individuals, and government and public officials.

General Comments on Routes

Helicopter Association International says that, because of noise considerations, it has consistently objected to implementation of air tour routes that place air tour operations repetitively over or very near areas in which large numbers of persons on the ground congregate. Instead, HAI believes that air tour routes should be designed to avoid the largest number of park ground visitors practicable, consistent with the right of air tour visitors to experience their national park from an aerial perspective. The routes also need to support the safe arrival and departure procedures to facilities on the ground where air tour visitors can safely and conveniently board air tour aircraft.

HAI adds that human activity on the ground has characteristics that may influence acceptable overflight noise thresholds, and that the presence or absence of such activity should be taken into account. For example, automobile traffic and crowd noise in areas frequented by park ground visitors may mask aircraft overflight sound. It may be reasonable, therefore, to permit more such sound in these areas than in areas where automobile traffic and crowd noise are absent.

FAA Response: The NPS has advised the FAA that the noise concerns are less over the highly populated areas of the park, such as Grand Canyon Village, where there are other noise sources, such as buses, and large crowds. The NPS is particularly concerned with protecting the natural quiet that exists on back country trails and on the quiet river waters where park visitors go to experience nature. Thus where possible, the FAA has structured the routes to be consistent with this concern. The FAA has determined that route changes contained in this notice provide safe transit through the SFRA and support safe arrival and departure procedures to local airports.

Eastern Expansion of Desert View (Black 2, Green 3 and Black 2X-4)

Southwest Safaris says that flexibility of route structure is critical. This commenter also notes that weather and lighting changes in GCNP from hour to hour, day to day, and season to season. In order to provide park visitors with the best air tour possible, air tour operators must be able to fly the Canyon both south to north and north to south, as well as in a counterclockwise direction. This commenter believes that some tours need to be longer than others for reasons of price as well as safety.

Southwest Safaris also states that the newly proposed air tour routes in the eastern end of the Park totally destroy an air tour operator's flexibility to design tours appropriate to changing conditions in the Park. Finally, this commenter finds that the newly proposed air tour routes make no reasonable provision for entering and exiting the Park from the east or the northeast. Air tour operators approaching the Canyon from Tuba City and/or Monument Valley will be negatively impacted.

FAA Response: The routes map depicts a modification in the Desert View FFZ moving it back to the GCNP boundary. This modification from the proposed change to the Desert View FFZ is addressed in the final rule, Modification of the Dimensions of the Grand Canyon National Park Special Flight Rules Area and Flight Free Zones, which appears in this issue of the Federal Register. This change will not affect the proposed Green 3 or Black 2 routes and the SFRA boundary will be depicted as it was on the proposed map.

The FAA added the Zuni turnaround to provide some counterclockwise flexibility. It is not revising the entry point at 2X-4 due to altitude congestion. The entrance points to Black 2 and Green 3 located near the Reservation have been modified to provide easier entry onto the routes.

Zuni Corridor (Black 2, Green 1)

Southwest Safaris states that the proposed routes over the canyons of the Little Colorado River are of negative value. Passengers pay to see the Grand Canyon, not the lesser canyons of the Little Colorado River or even the Painted Desert. This commenter states that any air tour operator who diverts east to avoid weather over Saddle Mountain will be compelled to refund the entire money paid for the air tour because this would fly out over the desert where there is nothing to see. Southwest Safaris states that as soon as this financial reality becomes generally known, air tour operators will feel that they “must” fly the longer, higher routes “over the top” of the Canyon (through the extended Dragon Corridor) even in the face of bad weather. This commenter believes that the FAA is forcing air tour operators into a safety risk to the extent that once inside the Canyon airspace there will be no way out.

Grand Canyon Airlines states that the Black 1 route over Saddle Mountain forces air tour operators to fly a longer route over higher terrain. This increases the cost of the air tour without providing any additional benefit to air tour passengers.

FAA Response: The FAA has modified the Zuni Point Corridor routes to permit two-way fixed wing traffic in response to comments. The FAA has concluded that a turnaround at Gunthers Castle is necessary to provide operators with a safe and economic alternative to the Saddle Mountain routes. Additionally, the FAA estimates that with the cap on commercial air tours the noise impact on the park will be improved if air tour operators are permitted shorter flights. For example, if an air tour operator is given only 10 allocations they will produce less noise by conducting 10 half hour air tours rather than 10 one hour air tours. By using the two-way flights in the Zuni Point Corridor, air tours will avoid the much longer flight around Saddle Mountain and through the Dragon Corridor. The FAA believe this change serves three beneficial ends: (1) it improves safety by permitting air tours to use the Zuni Point Corridor as an alternative to flying over Saddle Mountain during bad weather, (2) it decreases air tour noise in the park, and (3) it alleviates economic concerns.

Bright Angel

Grand Canyon Airlines requests that an air tour route be added through the Bright Angel Corridor so that air tour operators will have a safe alternative to flying over Saddle Mountain.

Several environmentalist commenters state that Bright Angel Corridor should never be opened to air tour traffic.

FAA Response: The FAA is not currently implementing a route for all aircraft in the Bright Angel Corridor. The route map shows a future Bright Angel Corridor. The Bright Angel Corridor is reserved as a future incentive route for noise efficient/quiet technology aircraft. However, the FAA notes that in a weather emergency, an operator can use the Bright Angel Corridor to escape weather over Saddle Mountain.

Marble Canyon (Black 4, Black 5)

Southwest Safaris states that the FAA has reversed the route structure in the Marble Canyon Sector. Black 4 and Black 5 have been swapped, with no justification for the needless confusion this will cause air tour operators.

Both Southwest Safaris and Sunrise Airlines state that Black 4 and Black 5 routes should remain as currently depicted under SFAR 50-2. Additionally, Southwest Safaris notes that the FAA proposal unnecessarily and unfairly forces commercial air tour traffic away from the canyon taking away the quality air tour from the entire Marble Canyon.

FAA Response: The FAA and NPS during the 1996 rulemaking process decided to redesign the Marble Canyon Sector to reduce the impact of aircraft noise on the Colorado River. To accomplish this reduction, the FAA eliminated one of two air tour crossovers and the routes were moved further from the river. The elimination resulted in the reversal of the entry and exit points of Black 4 and Black 5. The FAA believes this is a training issue and it is providing a training period, 45 days from publication of the airspace final rule, before these routes will be implemented.

Dragon Corridor (Black 1, Green 1, Green 2)

Several environmental organizations (Arizona Raft Adventures, Friends of Grand Canyon, Grand Canyon River Guides, Grand Canyon Trust, Maricopa Audubon Society, Nature Sounds Society, National Parks and Conservation Association, Quiet Skies Alliance, Sierra Club, The Wilderness Society) oppose the dog-leg in the Dragon Corridor and recommend that the Dragon Corridor be closed to all aviation traffic.

Twin Otter International recommends that the Dragon Corridor be converted within years to a quiet airplane flight corridor. Furthermore, this commenter suggests that the FAA define the operating characteristics an airplane must have in order for it to conduct round-trip air tours within the Dragon Corridor, and immediately permit such fixed-wing air tours in the Dragon Corridor as are currently permitted for helicopter tours.

FAA Response: The FAA is retaining the air tour routes through the Dragon Corridor as proposed and as depicted. The dog-leg contained in the Dragon Corridor route structure moves the route away from Hermit's Rest and significantly lessens the impact of aircraft noise on those visitors. The necessity for a total closing of the Dragon corridor was considered and rejected since the agencies doe not believe it is necessary to achieve the statutory mandate.

The FAA is not considering the TOIL request to convert the Dragon Corridor to quiet aircraft at this time. The FAA and NPS have not yet defined the characteristics that qualify as quiet technology. Thus, any request to convert to quiet technology at this time is premature.

Sanup FFZ (Blue Direct North, Blue Direct South)

Clark County Department of Aviation says that the FAA's failure to provide sufficient explanation or support for its decision to drop any version of a Blue 1 route creates another dangerous precedent for western aviation. The FAA proposes to eliminate the most-used and highest-revenue tour route on the basis of concerns about possible impacts to Native American cultural or religious sites. However, the FAA does not identify with any specificity what resources are affected by Blue 1, how they are affected or the applicable standard of impact. Without this information, Clark County notes that the public has no ability to assess whether FAA's decision is justified or arbitrary.

National Air Transportation Association objects to the elimination of a vital air tour route from Las Vegas, Nevada. Transferring this corridor to a less scenic “transportation corridor” severely restricts the air tour experience from Las Vegas.

Air Vegas states that with the elimination of the Blue 1 route there needs to be an extended “sightseeing” flight available to Las Vegas fixed wing operators in the western portion of the park. There is also no reverse air tour. Without some changes to the proposed route system there will not be a viable air tour system out of Las Vegas.

Twin Otter International, Ltd., (TOIL) suggests that the existing north rim fixed-wing air tour route and the existing Blue 1 (Las Vegas to Grand Canyon) be limited to quite aircraft in 2 years.

FAA Response: The route map remains as originally set forth in the notice with respect to Blue Direct North and Blue Direct South.

The Blue 1 was severed by the southward extension of the Toroweap-Thunder River FFZ, which was adopted in the 1996 final rule. Since this section of the 1996 final rule has not been implemented yet, air tour operators have continued to operate on the Blue 1. The FFZ extension is due to be implemented on January 31, 2000. Thus, at that time, the Blue 1 would have to be modified in order to be used as a tour route.

In order for the FAA to meet the goal of substantial restoration of natural quiet, decisions had to be made as to how to reduce the current level of noise impacting on GCNP. The Blue 1 air tour route passed over some of the most sensitive backcountry habitat in the GCNP as well as raising significant controversy with some Native American tribes residing under or near the flight path for Blue 1. The FAA decided to keep the east and west end air tours, which would still allow operators transiting from Las Vegas to Tusayan a flight path that offered GCNP vistas while transiting to and from the Park.

TOIL's recommendation for a quit technology route along the existing Blue 1 is premature given that a final rule implementing a quiet technology standard has not yet been adapted.

Grand Canyon West Vicinity (Blue 2, Green 4)

The Hualapai Nation (hereafter the Hualapai Tribe) states that the routes flown by transport flights have served as de facto Brown routes for the Hualapai Tribe comparable to the route proposed to serve the Havasupai Tribe. The Hualapai Tribe would like an officially designated Brown route created that would not be subject to caps, consistent with Congress' intent not to interfere with transportation flights to the Park or tribal lands. To ensure that the Hualapai Tribe's Brown route is used only by flights transporting persons to and from the Hualapai Reservation, the FAA could specify that all flights utilizing the route must have the permission of the Hualapai Tribe to land on the Hualapai Reservation.

FAA Response: The FAA has addressed the Hualapai Tribe's concerns in the final rule, Commercial Air Tour Limitations in the Grand Canyon National Park Special Flight Rules Area, also published in this Federal Register. Thus, there is no need to create a Brown route to service the Hualapai Reservation.

General Aviation

Aircraft Owners and Pilots Association (AOPA) recommends that the FAA identify and chart VFR waypoints and latitude and longitude coordinates for the Dragon and Zuni Point corridors as both have difficult dog-leg course changes. AOPA's other comments, related to flight-free zones and corridors, are addressed in the final rule on airspace modification in GCNP published concurrently in this Federal Register.

FAA Response: The General Aviation commenters are reminded that the proposed route map only depicted the air tour routes and corridors and not the general aviation corridors. The general aviation corridors, when published as part of the official map, will contain the necessary latitude and longitude coordinates for navigation.

Environmental Review

The FAA has prepared a final supplemental environmental assessment and finding of no significant impact (FONSI) for this action to ensure conformance with the National Environmental Policy Act of 1969. Copies of the EA have been circulated to interested parties and placed in the docket, where it is available for review.

Dated: Issued in Washington, DC on March 28, 2000.
Jane F. Garvey,
Administrator, Federal Aviation Administration.

[FR Doc. 00-7951 Filed 3-28-00; 4:59 pm]

BILLING CODE 4910-13-M